NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on October 6-7, 2016. A sample of agenda items to be discussed during the public session includes: An update on medical-related events; a discussion on the reporting of medical events for various modalities; a discussion on the licensing guidance for yttrium-90 microsphere brachytherapy; a discussion on the training and experience requirements for authorized individuals for various modalities; a presentation from Spectrum Pharmaceuticals, Inc. on the training and experience requirements for alpha and beta emitters; an update on the worldwide supply of molybdenum-99; and a discussion on the licensing guidance for the NorthStar® Generator. The agenda is subject to change. The current agenda and any updates will be available at http://www.nrc.gov/reading-rm/doc-collections/acmui/meetings/2016.html or by emailing Ms. Michelle Smethers at the contact information below.

Purpose: Discuss issues related to 10 CFR part 35 Medical Use of Byproduct Material.

Date and Time for Open Sessions: October 06, 2016, from 8:00 a.m. to 3:00 p.m. and October 07, 2016, from 8:00 a.m. to 4:00 p.m.

Data and Time for Closed Sessions: October 06, 2016, from 7:00 a.m. to 8:00 a.m. and from 3:00 p.m. to 5:00 p.m.

Address for Public Meeting: U.S. Nuclear Regulatory Commission, Two White Flint North Building, Room T2-B3, 11545 Rockville Pike, Rockville, Maryland 20852.

Public Participation: Any member of the public who wishes to participate in the meeting in person or via phone should contact Ms. Smethers using the information below. The meeting will also be webcast live: video.nrc.gov.

FOR FURTHER INFORMATION CONTACT: Michelle Smethers, email: michelle.smethers@nrc.gov, telephone: (301) 415-6711.

Conduct of the Meeting

Philip O. Alderson, M.D., will chair the meeting. Dr. Alderson will conduct the meeting in a manner that will facilitate the orderly conduct of business. The following procedures apply to public participation in the meeting:

1. Persons who wish to provide a written statement should submit an electronic copy to Ms. Smethers using the contact information listed above. All submittals must be received by October 3, 2016, and must pertain to the topic on the agenda for the meeting.

2. Questions and comments from members of the public will be permitted during the meeting, at the discretion of the Chairman.

3. The draft transcript and meeting summary will be available on ACMUI's Web site http://www.nrc.gov/reading-rm/doc-collections/acmui/meetings/2016.html on or about November 22, 2016.

4. Persons who require special services, such as those for the hearing impaired, should notify Ms. Smethers of their planned attendance.

This meeting will be held in accordance with the Atomic Energy Act of 1954, as amended (primarily Section 161a); the Federal Advisory Committee Act (5 U.S.C. App); and the Commission's regulations in Title 10 of the Code of Federal Regulations, part 7.

Dated at Rockville, Maryland, this 28th day of July, 2016.
Andrew L. Bates,
Advisory Committee Management Officer.

[FR Doc. 2016-18372 Filed 8-2-16; 8:45 am]

BILLING CODE 7590-01-P